DEPARTMENT OF LABOR

Employment and Training Administration

[TA-W-38,495 and TA-W-38,495C]

VF Imagewear (East), Inc., Martinsville, VA, Including Employees of VF Imagewear (East), Martinsville, VA, Located in Golden Valley, MN, Dallas, TX, Portland, OR, and Salisbury, MD, and VF Imagewear (East), Inc., Brownsville, TX; Amended Certification Regarding Eligibility To Apply for Worker Adjustment Assistance

In accordance with section 223 of the Trade Act of 1974 (19 U.S.C. 2273) the Department Labor issued a Certification of Eligibility to Apply for Worker Adjustment Assistance on April 17, 2001, applicable to workers of VF Imagewear (East), Inc., Martinsville, Virginia. The notice was published in the Federal Register on May 3, 2001 (66 FR 22262). The certification was amended on December 14, 2001 to include employees of the Martinsville, Virginia facility of the subject firm located in Golden Valley, Minnesota, Dallas, Texas, Portland, Oregon and Salisbury, Maryland.

At the request of the company, the Department reviewed the certification for workers of the subject firm. The company reports that worker separations have occurred at The Brownsville, Texas location of VF Imagewear (East), Inc. The Brownsville, Texas workers provide warehousing and distribution services for the subject firm's production facilities, including Martinsville, Virginia.

Accordingly, the Department is amending the certification to cover the workers of VF Imagewear (East), Inc., Brownsville, Texas.

The intent of the Department's certification is to include all workers of VF Imagewear (East), Inc. who were adversely affected by increased imports.

The amended notice applicable to TA-W-38,495 is hereby issued as follows:

All workers of VF Imagewear (East), Inc., Martinsville, Virginia, including workers of the Martinsville, Virginia facility located in Golden Valley, Minnesota, Dallas, Texas, Portland, Oregon and Salisbury, Maryland (TA-W-38,495) and VF Imagewear (East), Inc., Brownsville, Texas (TA-W-38,495C) who became totally or partially separated from employment on or after December 13, 1999, through April 17, 2003, are eligible to apply for adjustment assistance under Section 223 of the Trade Act of 1974.

Signed at Washington DC, this 3rd day of July, 2002.
Linda G. Poole,
Certifying Officer, Division of Trade Adjustment Assistance.

[FR Doc. 02-18628 Filed 7-23-02; 8:45 am]

BILLING CODE 4510-30-P